DEPARTMENT OF VETERANS AFFAIRS

38 CFR Parts 17 and 59

RIN 2900-AJ43

Grants to States for Construction and Acquisition of State Home Facilities

AGENCY: Department of Veterans Affairs.

ACTION: Interim final rule.

SUMMARY: This document establishes regulations regarding grants to States for the construction or acquisition of State homes for furnishing domiciliary and nursing home care to veterans, or for the expansion, remodeling, or alteration of existing State homes for furnishing domiciliary, nursing home, or adult day health care to veterans. This is necessary to update the regulations and to implement statutory provisions, including provisions of the Veterans Millennium Health Care and Benefits Act.

DATES: Effective Date: June 26, 2001. Comments must be received by VA on or before August 27, 2001.

The incorporation by reference of certain publications in this rule is approved by the Director of the Office of the Federal Register as of June 26, 2001.

ADDRESSES: Mail or hand-deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AJ43.” All comments received will be available for public inspection in the Office of Regulations Management, Room 1158, between the hours of 8:00 a.m. and 4:30 p.m., Monday through Friday (except holidays).

FOR FURTHER INFORMATION CONTACT: Frank Salvas, Chief, State Home Construction Grant Program (114), Veterans Health Administration, 202-273-8534.

SUPPLEMENTARY INFORMATION: This document establishes regulations regarding grants to States for the construction or acquisition of State homes for furnishing domiciliary and nursing home care to veterans, or for the expansion, remodeling, or alteration of existing State homes for furnishing domiciliary, nursing home, or adult day health care to veterans. The rule, which is set forth in a new 38 CFR part 59, consists of a comprehensive rewrite of the regulations set forth in 38 CFR 17.210 through 17.222. The substantive differences from the previous regulations are discussed below.

Public Law 102-585 changed from 90 days to 180 days the time limit for States receiving a conditionally-approved grant to fully comply with the requirements for a grant. The rule reflects this statutory provision.

Under authority of Public Law 104-262 (enacted on October 9, 1996), the rule includes provisions for awarding grants to States to expand, remodel, or alter existing buildings for furnishing adult day health care.

The rule also includes provisions to implement statutory provisions established by the Veterans Millennium Health Care and Benefits Act (Public Law 106-117, enacted on November 30, 1999). This Act made the following changes that are reflected in the rule:

• The Act requires VA to prescribe for each State the number of nursing home and domiciliary beds for which grants may be furnished. This is required to be based on the projected demand for nursing home and domiciliary care on November 30, 2009 (10 years after the date of enactment of the Veterans Millennium Health Care and Benefits Act (Pub. L. 106-117)), by veterans who at such time are 65 years of age or older and who reside in that State. In determining the projected demand, VA must take into account travel distances for veterans and their families.

• The Act sets forth new criteria for determining the order of priority for grants for projects, including provisions regarding whether the need for a bed-producing project is great, significant, or limited.

• The Act provides that VA may not accord any priority to projects for the construction or acquisition of a hospital.

• The Act provides that a State may not request a grant for a project for which the total cost of construction is not in excess of $400,000.

• The Act provides that a grant may not include maintenance and repair work.

• The Act requires an application for a grant for construction or acquisition of a nursing home or a domiciliary facility to include the following in the application for a grant:

(1) Documentation that the site of the project is in reasonable proximity to a sufficient concentration and population of veterans that are 65 years of age and older and that there is a reasonable basis to conclude that the facility when complete will be fully occupied,

(2) A financial plan for the first three years of operation of such facility, and

(3) A five-year capital plan for the State home program for that State.

The rule also includes provisions to reflect that, under Public Law 106-419, VA will not recapture amounts for all or portions of a facility that was changed to an outpatient clinic established and operated by VA.

As noted above, the Veterans Millennium Health Care and Benefits Act sets forth new criteria for determining the order of priority for grants for projects. We have also created new subpriorities for each priority category that reflect the statutory priority scheme. In addition, further subpriorities in “priority group 1—subpriority 1” are established to give higher priorities to the most urgently needed projects. Further subpriorities in “priority group 1—subpriority 4” are established to give higher priority to projects that we have determined are most needed for care of veterans. As a last resort for ties in subpriorities, the rule will give projects priority based on the earliest dates of receipt by VA of applications.

For a State's application to be included in priority group 1, a State must have made sufficient funds available for the project for which the grant is requested so that such project may proceed upon approval of the grant without further action required by the State (such as subsequent issuance of bonds) to make such funds available for such purpose. To meet this criteria, the State must provide to VA a letter from an authorized State budget official certifying that the State funds are, or will be, available for the project, so that if VA awards the grant, the project may proceed without further State action to make such funds available. If the certification is based on an Act authorizing the project and making available the State's matching funds for the project, a copy of the Act must be submitted with the certification.

Previously, at the time of prioritizing applications, instead of the whole amount, a State was merely required to provide a copy of an Act making available at least one-half of the State's matching funds for the project. We propose to require the full amount for priority group 1 applications. The change to require the full amount is necessary to help ensure that the State will actually have all of the funds available as needed for the project without having to take further action which could delay the construction of the State home.

As noted above, the Veterans Millennium Health Care and Benefits Act requires VA to prescribe for each State the number of nursing home and domiciliary beds for which grants may be furnished. This is required to be based on the projected demand for nursing home and domiciliary care on November 30, 2009 (10 years after the date of enactment of the Act), by veterans who at such time are 65 years of age or older and who reside in that State. As described below, we established the maximum number for each State in accordance with that criteria.

To determine the maximum number of nursing home beds for each State, we started with the national nursing home utilization by males 65 and older which came from the Medical Expenditure Panel Survey (MEPS) conducted by the Department of Health and Human Services in 1996. The MEPS includes nursing home utilization by age group and by level of dependency in activities of daily living (ADL). Based on the assumptions that the national nursing home use rate for males would be approximately the same for veterans and non-veterans, and that the projected number of female veterans over 65 would be very small, we applied the national rate to the projected male and female veteran population 65 years and older in 2009 in each State. We multiplied the resulting number for each State by 11.5 percent. This percentage represents the projected national State nursing home reliance factor projected for VA for 2009. We also project that the VA national reliance factor for VA nursing homes and community nursing homes will be 11.5 percent for 2009. These percentages are based upon recent historical and projected data in VA's market share in providing nursing home care for veterans.

To determine the maximum number of domiciliary beds for each State projected to 2009, we applied the current age-specific utilization rates in existing State home domiciliaries to the projected veteran population 65 years and older in 2009 by State.

The maximum number of State home beds by State was then derived by adding the projected number of State nursing home beds for 2009 to the projected number of State domiciliary beds for 2009.

The “natural break points” (large gaps between groups of numbers representing maximum beds needed for States) in the list of maximum State home beds by State are utilized to define great, significant and limited need for beds. A State with great need is a State with no State home beds or with a need for 2000 or more beds; a State with significant need is a State with a need for 1000-1999 beds; and a State with limited need is a State with a need for less than 1000 beds.

For purposes of great, significant, and limited need for beds, the maximum number of State home nursing home and domiciliary beds for each State is the number in the chart in § 59.40 for the State, minus the sum of the number of nursing home and domiciliary beds already in operation at State home facilities, and the number of State home nursing home and domiciliary beds not yet in operation but for which a grant has either been requested or awarded. The numbers for making these calculations will be made available to the public on a VA website at http://www.va.gov/About_VA/Orgs/VHA/VHAProg.htm.

As noted above, the Veterans Millennium Health Care and Benefits Act requires that in considering the number of nursing home and domiciliary beds for which grants may be furnished, VA must take into account travel distances for veterans and their families. In this regard, the rule states that a State may request a grant for a project that would increase the total number of State home nursing home and domiciliary beds beyond the maximum number for that State if the State submits to the Chief Consultant, Geriatrics and Extended Care, documentation to establish a need for an exception based on travel distances of at least two hours (by land transportation or any other usual mode of transportation if land transportation is not available) between a veteran population center sufficient for the establishment of a State home and any existing State home. We believe this is a reasonable method for meeting the statutory requirement.

The rule contains construction requirements for facilities that would furnish nursing home care, domiciliary care, and adult day health care (§§ 59.121 through 59.170). The construction requirements for nursing homes are consistent with the construction requirements that were recently established for per diem for nursing home care of veterans in State homes (38 CFR part 51). The proposed construction requirements for domiciliaries are the same as those for nursing homes because the construction needs are the same. The construction requirements for adult day health care are consistent with the proposed construction requirements for per diem for adult day health care of veterans in State homes (65 FR 39835).

The rule incorporates by reference the 2000 edition of the National Fire Protection Association Life Safety Code entitled “NFPA 101, Life Safety Code” and the 1999 edition of the NFPA 99, Standard for Health Care Facilities (1999 edition). The regulations are designed to ensure that State homes meet these national standards for fire and safety.

Administrative Procedure Act

Pursuant to 5 U.S.C. 553, we have found for this rule that notice and public procedure are impracticable, unnecessary, and contrary to the public interest and that we have good cause to dispense with notice and comment on this rule and to dispense with a 30-day delay of its effective date. The Veterans' Millennium Health Care and Benefits Act provides that the Secretary shall prescribe provisions in this rule to be used for awarding grants for fiscal year 2002. Without this rule becoming effective immediately, States would not have sufficient time to meet the requirements for inclusion on the priority list for obtaining a grant for fiscal year 2002.

Regulatory Flexibility Act

The Secretary hereby certifies that the adoption of this proposed rule would not have a significant economic impact on a substantial number of small entities as they are defined in the Regulatory Flexibility Act, 5 U.S.C. 601-612. All of the entities that would be subject to this proposed rule are State government entities under the control of State governments. Of the 100 State homes, all are operated by State governments except for 17 that are operated by entities under contract with State governments. These contractors are not small entities. Therefore, pursuant to 5 U.S.C. 605(b), this proposed rule is exempt from the initial and final regulatory flexibility analysis requirement of sections 603 and 604.

Executive Order 12866

The Office of Management and Budget has reviewed this interim final rule under Executive Order 12866.

Unfunded Mandates

The Unfunded Mandates Reform Act requires (in section 202) that agencies prepare an assessment of anticipated costs and benefits before developing any rule that may result in an expenditure by State, local, or tribal governments, in the aggregate, or by the private sector of $100 million or more in any given year. This rule would have no consequential effect on State, local, or tribal governments.

Paperwork Reduction Act

This rule is exempt from the collections of information requirements under the Paperwork Reduction Act (44 U.S.C. 3501-3520). The rule only applies to States. Further, in 2000, VA received applications for grants from only six States and we expect that each year fewer than 10 States will submit applications. If VA expects to receive 10 or more applications in any year, we will seek approval under the Paperwork Reduction Act for this collection of information.

List of Subjects

38 CFR Part 17

Administrative practice and procedure, Alcohol abuse, Alcoholism, Claims, Day care, Dental health, Drug abuse, Foreign relations, Government contracts, Grant programs-health, Government programs-veterans, Health care, Health facilities, Health professions, Health records, Homeless, Medical and dental schools, Medical devices, Medical research, Mental health programs, Nursing home care, Philippines, Reporting and recordkeeping requirements, Scholarships and fellowships, Travel and transportation expenses, Veterans.

38 CFR Part 59

Administrative practice and procedure, Alcohol abuse, Alcoholism, Claims, Day care, Dental health, Drug abuse, Foreign relations, Government contracts, Grant programs-health, Government programs-veterans, Health care, Health facilities, Health professions, Health records, Homeless, Incorporation by reference, Medical and dental schools, Medical devices, Medical research, Mental health programs, Nursing home care, Philippines, Reporting and recordkeeping requirements, Scholarships and fellowships, Travel and transportation expenses, Veterans.

Approved: June 7, 2001.
Anthony J. Principi,
Secretary of Veterans Affairs.

For the reasons set out in the preamble, 38 CFR Chapter I is amended as follows:

PART 17—MEDICAL

1. The authority citation for part 17 continues to read as follows:

Authority: 38 U.S.C. 501, 1721, unless otherwise noted.

2. Immediately after § 17.200, remove the undesignated center heading, the note, and §§ 17.210 through 17.222.

3. A new part 59 is added to read as follows:

PART 59—GRANTS TO STATES FOR CONSTRUCTION OR ACQUISITION OF STATE HOMES

Sec.
59.1 Purpose.
59.2 Definitions.
59.3 Federal Application Identifier.
59.4 Decisionmakers, notifications, and additional information.
59.5 Submissions of information and documents to VA.
59.10 General requirements for a grant.
59.20 Initial application requirements.
59.30 Documentation.
59.40 Maximum number of nursing home care and domiciliary care beds for veterans by State.
59.50 Priority list.
59.60 Additional application requirements.
59.70 Award of grants.
59.80 Amount of grant.
59.90 Line item adjustments to grants.
59.100 Payment of grant award.
59.110 Recapture provisions.
59.120 Hearings.
59.121 Amendments to application.
59.122 Withdrawal of application.
59.123 Conference.
59.124 Inspections, audits, and reports.
59.130 General requirements for all State home facilities.
59.140 Nursing home care requirements.
59.150 Domiciliary care requirements.
59.160 Adult day health care requirements.
59.170 Forms.

Authority: 38 U.S.C. 101, 501, 1710, 1742, 8105, 8131-8137).

§ 59.1 Purpose.

This part sets forth the mechanism for a State to obtain a grant:

(a) To construct State home facilities (or to acquire facilities to be used as State home facilities) for furnishing domiciliary or nursing home care to veterans, and

(b) To expand, remodel, or alter existing buildings for furnishing domiciliary, nursing home, adult day health, or hospital care to veterans in State homes.

(Authority: 38 U.S.C. 101, 501, 1710, 1742, 8105, 8131-8137).

§ 59.2 Definitions.

For the purpose of this part:

Acquisition means the purchase of a facility in which to establish a State home for the provision of domiciliary and/or nursing home care to veterans.

Adult day health care is a therapeutically-oriented outpatient day program, which provides health maintenance and rehabilitative services to participants. The program must provide individualized care delivered by an interdisciplinary health care team and support staff, with an emphasis on helping participants and their caregivers to develop the knowledge and skills necessary to manage care requirements in the home. Adult day health care is principally targeted for complex medical and/or functional needs of elderly veterans.

Construction means the construction of new domiciliary or nursing home buildings, the expansion, remodeling, or alteration of existing buildings for the provision of domiciliary, nursing home, or adult day health care, or hospital care in State homes, and the provision of initial equipment for any such buildings.

Domiciliary care means providing shelter, food, and necessary medical care on an ambulatory self-care basis (this is more than room and board). It assists eligible veterans who are suffering from a disability, disease, or defect of such a degree that incapacitates veterans from earning a living, but who are not in need of hospitalization or nursing care services. It assists in attaining physical, mental, and social well-being through special rehabilitative programs to restore residents to their highest level of functioning.

Nursing home care means the accommodation of convalescents or other persons who are not acutely ill and not in need of hospital care, but who require skilled nursing care and related medical services.

Secretary means the Secretary of the United States Department of Veterans Affairs.

State means each of the several States, the District of Columbia, the Virgin Islands, and the Commonwealth of Puerto Rico.

State representative means the official designated in accordance with State authority with responsibility for matters relating to the request for a grant under this part.

VA means the United States Department of Veterans Affairs.

(Authority: 38 U.S.C. 101, 501, 1710, 1742, 8105, 8131-8137).

§ 59.3 Federal Application Identifier.

Once VA has provided the State representative with a Federal Application Identifier Number for a project, the number must be included on all subsequent written communications to VA from the State, or its agent, regarding a request for a grant for that project under this part.

(Authority: 38 U.S.C. 101, 501, 1710, 1742, 8105, 8131-8137).

§ 59.4 Decisionmakers, notifications, and additional information.

The decisionmaker for decisions required under this part will be the Chief Consultant, Geriatrics and Extended Care, unless specified to be the Secretary or other VA official. The VA decisionmaker will provide written notice to affected States of approvals, denials, or requests for additional information under this part.

(Authority: 38 U.S.C. 101, 501, 1710, 1742, 8105, 8131-8137).

§ 59.5 Submissions of information and documents to VA.

All submissions of information and documents required to be presented to VA must be made, unless otherwise specified under this part, to the Chief Consultant, Geriatrics and Extended Care (114), VA Central Office, 810 Vermont Avenue, NW., Washington, DC 20420.

(Authority: 38 U.S.C. 101, 501, 1710, 1742, 8105, 8131-8137).

§ 59.10 General requirements for a grant.

For a State to obtain a grant under this part and grant funds, its initial application for the grant must be approved under § 59.20, and the project must be ranked sufficiently high on the priority list for the current fiscal year so that funding is available for the project. It must meet the additional application requirements in § 59.60, and it must meet all other requirements under this part for obtaining a grant and grant funds.

(Authority: 38 U.S.C. 101, 501, 1710, 1742, 8105, 8131-8137).

§ 59.20 Initial application requirements.

(a) For a project to be considered for inclusion on the priority list in § 59.50 of this part for the next fiscal year, a State must submit to VA an original and one copy of a completed VA Form 10-0388 and all information, documentation, and other forms specified by VA form 10-0388 (these forms are set forth at § 59.170 of this part).

(b) The Secretary, based on the information submitted for a project pursuant to paragraph (a) of this section, will approve the project for inclusion on the priority list in § 59.50 of this part if the submission includes all of the information requested under paragraph (a) of this section and if the submission represents a project that, if further developed, could meet the requirements for a grant under this part.

(c) The information requested under paragraph (a) of this section should be submitted to VA by April 15, and must be received by VA by August 15, if the State wishes an application to be included on the priority list for the award of grants during the next fiscal year.

(d) If a State representative believes that VA may not award a grant to the State for a grant application during the current fiscal year and wants to ensure that VA includes the application on the priority list for the next fiscal year, the State representative must, prior to August 15 of the current fiscal year,

(1) Request VA to include the application in those recommended to the Secretary for inclusion on the priority list, and

(2) Send any updates to VA.

(Authority: 38 U.S.C. 101, 501, 1710, 1742, 8105, 8131-8137).

§ 59.30 Documentation.

For a State to obtain a grant and grant funds under this part, the State must submit to VA documentation that the site of the project is in reasonable proximity to a sufficient concentration and population of veterans that are 65 years of age and older and that there is a reasonable basis to conclude that the facility when complete will be fully occupied. This documentation must be included in the initial application submitted to VA under § 59.20.

(Authority: 38 U.S.C. 101, 501, 1710, 1742, 8105, 8131-8137).

§ 59.40 Maximum number of nursing home care and domiciliary care beds for veterans by State.

(a) Except as provided in paragraph (b) of this section, a State may not request a grant for a project to construct or acquire a new State home facility, to increase the number of beds available at a State home facility, or to replace beds at a State home facility if the project would increase the total number of State home nursing home and domiciliary beds beyond the maximum number designated for that State. The maximum number of State home nursing home and domiciliary beds designated for each State is (for maximum numbers see VA website at http://www.va.gov/About_VA/Orgs/VHA/VHAProg.htm). the number in the following chart for the State, minus the sum of the number of nursing home and domiciliary beds already in operation at State home facilities, and the number of State home nursing home and domiciliary beds not yet in operation but for which a grant has either been requested or awarded under this part (the availability of VA and community nursing home beds in each State will also be considered at the time of grant application for bed-producing projects):

State | State home nursing home and domiciliary beds
Alabama | 883
Alaska | 79
Arizona | 1,068
Arkansas | 557
California | 5,754
Colorado | 717
Connecticut | 738
Delaware | 165
District of Columbia | 104
Florida | 4,471
Georgia | 1,202
Hawaii | 216
Idaho | 233
Illinois | 2,271
Indiana | 1,209
Iowa | 632
Kansas | 542
Kentucky | 759
Louisiana | 785
Maine | 301
Maryland | 1,020
Massachusetts | 1,348
Michigan | 1,896
Minnesota | 932
Mississippi | 500
Missouri | 1,230
Montana | 198
Nebraska | 355
Nevada | 428
New Hampshire | 264
New Jersey | 1,683
New Mexico | 344
New York | 3,220
North Carolina | 1,454
North Dakota | 121
Ohio | 2,530
Oklahoma | 747
Oregon | 804
Pennsylvania | 3,173
Puerto Rico | 350
Rhode Island | 254
South Carolina | 750
South Dakota | 155
Tennessee | 1,050
Texas | 3,226
Utah | 304
Vermont | 124
Virginia | 1,312
Virgin Islands | 8
Washington | 1,215
West Virginia | 455
Wisconsin | 1,070
Wyoming | 93

Note to paragraph (a): The provisions of 38 U.S.C. 8134 require VA to prescribe for each State the number of nursing home and domiciliary beds for which grants may be furnished. This is required to be based on the projected demand for nursing home and domiciliary care on November 30, 2009 (10 years after the date of enactment of the Veterans Millennium Health Care and Benefits Act (P.L. 106-117)), by veterans who at such time are 65 years of age or older and who reside in that State. In determining the projected demand, VA must take into account travel distances for veterans and their families.

(b) A State may request a grant for a project that would increase the total number of State nursing home and domiciliary beds beyond the maximum number for that State, if the State submits to VA, documentation to establish a need for the exception based on travel distances of at least two hours (by land transportation or any other usual mode of transportation if land transportation is not available) between a veteran population center sufficient for the establishment of a State home and any existing State home. The determination regarding a request for an exception will be made by the Secretary.

(Authority: 38 U.S.C. 101, 501, 1710, 1742, 8105, 8131-8137).

§ 59.50 Priority list.

(a) The Secretary will make a list prioritizing the applications that were received on or before August 15 and that were approved under § 59.20 of this part. Except as provided in paragraphs (b) and (c) of this section, applications will be prioritized from the highest to the lowest in the following order:

(1) Priority group 1. An application from a State that has made sufficient funds available for the project for which the grant is requested so that such project may proceed upon approval of the grant without further action required by the State (such as subsequent issuance of bonds) to make such funds available for the project. To meet this criteria, the State must provide to VA a letter from an authorized State budget official certifying that the State funds are, or will be, available for the project, so that if VA awards the grant, the project may proceed without further State action to make such funds available (such as further action to issue bonds). If the certification is based on an Act authorizing the project and making available the State's matching funds for the project, a copy of the Act must be submitted with the certification.

(i) Priority group 1—subpriority 1. An application for a project to remedy a condition, or conditions, at an existing facility that have been cited as threatening to the lives or safety of the residents in the facility by a VA Life Safety Engineer, a State or local government agency (including a Fire Marshal), or an accrediting institution (including the Joint Commission on Accreditation of Healthcare Organizations). This priority group does not include applications for the addition or replacement of building utility systems, such as heating and air conditioning systems or building features, such as roof replacements. Projects in this subpriority will be further prioritized in the following order: seismic; building construction; egress; building compartmentalization (e.g., smoke barrier, fire walls); fire alarm/detection; asbestos/hazardous materials; and all other projects. Projects in this subpriority will be further prioritized based on the date the application for the project was received in VA (the earlier the application was received, the higher the priority given).

(ii) Priority group 1—subpriority 2. An application from a State that has not previously applied for a grant under 38 U.S.C. 8131-8137 for construction or acquisition of a State nursing home. Projects in this subpriority will be further prioritized based on the date the application for the project was received in VA (the earlier the application was received, the higher the priority given).

(iii) Priority group 1—subpriority 3. An application for construction or acquisition of a nursing home or domiciliary from a State that has a great need for the beds that the State, in that application, proposes to establish. Projects in this subpriority will be further prioritized based on the date the application for the project was received in VA (the earlier the application was received, the higher the priority given).

(iv) Priority group 1—subpriority 4. An application from a State for renovations to a State Home facility other than renovations that would be included in subpriority 1 of Priority group 1. Projects will be further prioritized in the following order: adult day health care construction; nursing home construction (e.g., patient privacy); code compliance under the Americans with Disabilities Act; building systems and utilities (e.g., electrical; heating, ventilation, and air conditioning (HVAC); boiler; medical gasses; roof; elevators); clinical-support facilities (e.g., for dietetics, laundry, rehabilitation therapy); and general renovation/upgrade (e.g., warehouse, storage, administration/office, multipurpose). Projects in this subpriority will be further prioritized based on the date the application for the project was received in VA (the earlier the application was received, the higher the priority given).

(v) Priority group 1—subpriority 5. An application for construction or acquisition of a nursing home or domiciliary from a State that has a significant need for the beds that the State in that application proposes to establish. Projects in this subpriority will be further prioritized based on the date the application for the project was received in VA (the earlier the application was received, the higher the priority given).

(vi) Priority group 1—subpriority 6. An application for construction or acquisition of a nursing home or domiciliary from a State that has a limited need for the beds that the State, in that application, proposes to establish. Projects in this subpriority will be further prioritized based on the date the application for the project was received in VA (the earlier the application was received, the higher the priority given).

Note to paragraph (a)(1): The following chart is intended to provide a graphic aid for understanding Priority group 1 and its subpriorities.

BILLING CODE 8320-01-P

BILLING CODE 8320-01-C

(2) Priority group 2. An application not meeting the criteria of paragraph (a)(1) of this section but meeting the criteria of paragraph (a)(1)(i) of this section. Projects within this priority group will be further prioritized the same as in paragraph (a)(1)(i) of this section.

(3) Priority group 3. An application not meeting the criteria of paragraph (a)(1) of this section but meeting the criteria of paragraph (a)(1)(ii) of this section. Projects within this priority group will be further prioritized the same as in paragraph (a)(1)(ii) of this section.

(4) Priority group 4. An application not meeting the criteria of paragraph (a)(1) of this section but meeting the criteria of paragraph (a)(1)(iii) of this section. Projects within this priority group will be further prioritized the same as in paragraph (a)(1)(iii) of this section.

(5) Priority group 5. An application not meeting the criteria of paragraph (a)(1) of this section but meeting the criteria of paragraph (a)(1)(iv) of this section. Projects within this priority group will be further prioritized the same as in paragraph (a)(1)(iv) of this section.

(6) Priority group 6. An application not meeting the criteria of paragraph (a)(1) of this section but meeting the criteria of paragraph (a)(1)(v) of this section. Projects within this priority group will be further prioritized the same as in paragraph (a)(1)(v) of this section.

(7) Priority group 7. An application not meeting the criteria of paragraph (a)(1) of this section but meeting the criteria of paragraph (a)(1)(vi) of this section. Projects within this priority group will be further prioritized the same as in paragraph (a)(1)(vi) of this section.

(b) An application will be given highest priority on the priority list for the next fiscal year within the priority group to which it is assigned in paragraph (a) of this section (without consideration of subpriorities) if:

(1) During the current fiscal year the State accepted a grant for that application that was less than the amount that would have been awarded if VA had sufficient appropriations to award the full amount of the grant requested; and

(2) The application was the lowest-ranking application on the priority list for the current fiscal year for which grant funds were available.

(c) An application will be given priority on the priority list (after applications described in paragraph (b) of this section) for the next fiscal year ahead of all applications that had not been approved under § 59.20 on the date that the application was approved under § 59.20, if:

(1) During the current fiscal year VA would have awarded a grant based on the application except for the fact that VA determined that the State did not, by July 1, provide evidence that it had its matching funds for the project, and

(2) The State was notified prior to July 1 that VA had funding available for this grant application.

(d) The priority list will not contain any project for the construction or acquisition of a hospital or hospital beds.

(e) For purposes of establishing priorities under this section:

(1) A State has a great need for nursing home and domiciliary beds if the State:

(i) Has no State homes with nursing home or domiciliary beds, or

(ii) Has an unmet need of 2,000 or more nursing home and domiciliary beds;

(2) A State has a significant need for nursing home and domiciliary beds if the State has an unmet need of 1,000 to 1,999 nursing home and domiciliary beds; and

(3) A State has a limited need for nursing home and domiciliary beds if the State has an unmet need of 999 or fewer nursing home and domiciliary beds.

(f) Projects that could be placed in more than one subpriority will be placed in the subpriority toward which the preponderance of the cost of the project is allocated. For example, under priority group 1—subpriority 1, if a project for which 25 percent of the funds needed would concern seismic and 75 percent of the funds needed would concern building construction, the project would be placed in the subpriority for building construction.

(g) Once the Secretary prioritizes the applications in the priority list, VA will not change the priorities unless a change is necessary as a result of an appeal.

(Authority: 38 U.S.C. 101, 501, 1710, 1742, 8105, 8131-8137).

§ 59.60 Additional application requirements.

For a project to be eligible for a grant under this part for the fiscal year for which the priority list was made, during that fiscal year the State must submit to VA an original and a copy of the following:

(a) Complete, updated Standard Forms 424 (mark the box labeled application and submit the information requested for an application), 424C, and 424D (the forms are set forth at § 59.170 of this part), and

(b) A completed VA Form 10-0388 and all information and documentation specified by VA Form 10-0388 (the form is set forth at § 59.170h).

(Authority: 38 U.S.C. 101, 501, 1710, 1742, 8105, 8131-8137).

§ 59.70 Award of grants.

(a) The Secretary, during the fiscal year for which a priority list is made under this part, will:

(1) Award a grant for each application that has been approved under § 59.20, that is sufficiently high on the priority list so that funding is available for the application, that meets the additional application requirements in § 59.60, and that meets all other requirements under this part for obtaining a grant, or

(2) Conditionally approve a grant for a project for which a State has submitted an application that substantially meets the requirements of this part if the State representative requests conditional approval and provides written assurance that the State will meet all requirements for a grant not later than 180 calendar days after the date of conditional approval. If a State that has obtained conditional approval for a project does not meet all of the requirements within 180 calendar days after the date of conditional approval, the Secretary will rescind the conditional approval and the project will be ineligible for a grant in the fiscal year in which the State failed to fully complete the application. The funds that were conditionally obligated for the project will be deobligated.

(b) As a condition of receiving a grant, a State must make sufficient funds available for the project for which the grant is requested so that such project may proceed upon approval of the grant without further action required by the State (such as subsequent issuance of bonds) to make such funds available for such purpose. To meet this criteria, the State must provide to VA a letter from an authorized State budget official certifying that the State funds are, or will be, available for the project, so that if VA awards the grant, the project may proceed without further State action to make such funds available (such as further action to issue bonds). If the certification is based on an Act authorizing the project and making available the State's matching funds for the project, a copy of the Act must be submitted with the certification. To be eligible for inclusion in priority group 1 under this part, a State must make such funds available by August 15 of the year prior to the fiscal year for which the grant is requested. To otherwise be eligible for a grant and grant funds based on inclusion on the priority list in other than priority group 1, a State must make such funds available by July 1 of the fiscal year for which the grant is requested.

(c) As a condition of receiving a grant, the State representative and the Secretary will sign three originals of the Memorandum of Agreement documents (one for the State and two for VA). A sample is in § 59.170.

(Authority: 38 U.S.C. 101, 501, 1710, 1742, 8105, 8131-8137).

§ 59.80 Amount of grant.

(a) The total cost of a project (VA and State) for which a grant is awarded under this part may not be less than $400,000 and, except as provided in paragraph (i) of this section, the total cost of a project will not exceed the total cost of new construction. The amount of a grant awarded under this part will be the amount requested by the State and approved in accordance with this part, not to exceed 65 percent of the total cost of the project except that:

(1) The total cost of a project will not include the cost of space that exceeds the maximum allowable space specified in this part, and

(2) The amount of the grant may be less than 65 percent of the total cost of the project if the State accepts less because VA did not have sufficient funds to award the full amount of the grant requested.

(b) The total cost of a project under this part for acquisition of a facility may also include construction costs.

(c) The total cost of a project under this part will not include any costs incurred before the date VA sent the State written notification that the application in § 59.20 was approved.

(d) The total cost of a project under this part may include administration and production costs, e.g., architectural and engineering fees, inspection fees, and printing and advertising costs.

(e) The total cost of a project under this part may include the cost of projects on the grounds of the facility, e.g., parking lots, landscaping, sidewalks, streets, and storm sewers, only if they are inextricably involved with the construction of the project.

(f) The total cost of a project under this part may include the cost of equipment necessary for the operation of the State home facility. This may include the cost of:

(1) Fixed equipment included in the construction or acquisition contract. Fixed equipment must be permanently affixed to the building or connected to the heating, ventilating, air conditioning, or other service distributed through the building via ducts, pipes, wires, or other connecting device. Fixed equipment must be installed during construction. Examples of fixed equipment include kitchen and intercommunication equipment, built-in cabinets, and cubicle curtain rods; and

(2) Other equipment not included in the construction contract constituting no more than 10 percent of the total construction contract cost of the project. Other equipment includes: furniture, furnishings, wheeled equipment, kitchen utensils, linens, draperies, blinds, electric clocks, pictures and trash cans.

(g) The contingency allowance may not exceed five percent of the total cost of the project for new construction or eight percent for renovation projects.

(h) The total cost of a project under this part may not include the cost of:

(1) Land acquisition;

(2) Maintenance or repair work; or

(3) Office supplies or consumable goods (such as food, drugs, medical dressings, paper, printed forms, and soap) which are routinely used in a State home.

(i) A grant for expansion, remodeling, or alteration of an existing State home, which is on or eligible for inclusion in the National Register of Historic Places, for furnishing domiciliary, nursing home, or adult day health care to veterans may not be awarded for the expansion, remodeling, or alteration of such building if such action does not comply with National Historic Preservation Act procedures or if the total cost of remodeling, renovating, or adapting such building or facility exceeds the cost of comparable new construction by more than five percent. If demolition of an existing building or facility on, or eligible for inclusion in, the National Register of Historic Places is deemed necessary and such demolition action is taken in compliance with National Historic Preservation Act procedures, any mitigation cost negotiated in the compliance process and/or the cost to professionally record the building or facility in the Historic American Buildings Survey (HABS), plus the total cost for demolition and site restoration, shall be included by the State in calculating the total cost of new construction.

(j) The cost of demolition of a building cannot be included in the total cost of construction unless the proposed construction is in the same location as the building to be demolished or unless the demolition is inextricably linked to the design of the construction project.

(k) With respect to the final award of a conditionally-approved grant, the Secretary may not award a grant for an amount that is 10 percent more than the amount conditionally-approved.

(Authority: 38 U.S.C. 101, 501, 1710, 1742, 8105, 8131-8137).

§ 59.90 Line item adjustments to grants.

After a grant has been awarded, upon request from the State representative, VA may approve a change in a line item (line items are identified in Form 424C which is set forth in § 59.170(o) of this part) of up to 10 percent (increase or decrease) of the cost of the line item if the change would be within the scope or objective of the project and would not change the amount of the grant.

(Authority: 38 U.S.C. 101, 501, 1710, 1742, 8105, 8131-8137).

§ 59.100 Payment of grant award.

The amount of the grant award will be paid to the State or, if designated by the State representative, the State home for which such project is being carried out, or any other State agency or instrumentality. Such amount shall be paid by way of reimbursement, and in such installments consistent with the progress of the project, as the Chief Consultant, Geriatrics and Extended Care, may determine and certify for payment to the appropriate Federal institution. Funds paid under this section for an approved project shall be used solely for carrying out such project as so approved. As a condition for the final payment, the State must comply with the requirements of this part based on an architectural and engineering inspection approved by VA, must obtain VA approval of the final equipment list submitted by the State representative, and must submit to VA a completed VA Form 10-0388 (see § 59.170(i)). The equipment list and the completed VA form 10-0388 must be submitted to the Chief Consultant, Geriatrics and Extended Care (114), VA Central Office, 810 Vermont Avenue, NW., Washington, DC 20420.

(Authority: 38 U.S.C. 101, 501, 1710, 1742, 8105, 8131-8137).

§ 59.110 Recapture provisions.

If a facility for which a grant has been awarded ceases to be operated as a State home for the purpose for which the grant was made, the United States shall be entitled to recover from the State which was the recipient of the grant or from the then owner of such construction as follows:

(a) If less than 20 years has lapsed since the grant was awarded, and VA provided 65 percent of the estimated cost to construct, acquire or renovate a State home facility principally for furnishing domiciliary care, nursing home care, adult day health care, hospital care, or non-institutional care to veterans, VA shall be entitled to recover 65 percent of the current value of such facility (but in no event an amount greater than the amount of assistance provided for such under these regulations), as determined by agreement of the parties or by action brought in the district court of the United States for the district in which the facility is situated.

(b) Based on the time periods for grant amounts set forth below, if VA provided between 50 and 65 percent of the estimated cost of expansion, remodeling, or alteration of an existing State home facility, VA shall be entitled to recover the amount of the grant as determined by agreement of the parties or by action brought in the district court of the United States for the district in which the facility is situated:

Grant amount (dollars in thousands) | Recovery period (in years)
0-250 | 7
251-500 | 8
501-750 | 9
751-1,000 | 10
1,001-1,250 | 11
1,251-1,500 | 12
1,501-1,750 | 13
1,751-2,000 | 14
2,001-2,250 | 15
2,251-2,500 | 16
2,501-2,750 | 17
2,751-3,000 | 18
Over 3,000 | 20

(c ) If the magnitude of the VA contribution is below 50 percent of the estimated cost of the expansion, remodeling, or alteration of an existing State home facility recognized by the Department of Veterans Affairs, the Under Secretary for Health may authorize a recovery period between 7 and 20 years depending on the grant amount involved and the magnitude of the project.

(d) This section does not apply to any portion of a State home in which VA has established and operates an outpatient clinic.

(Authority: 38 U.S.C. 101, 501, 1710, 1742, 8105, 8131-8137).

§ 59.120 Hearings.

If the Secretary determines that a submission from a State does not meet the requirements of this part, the Secretary will advise the State by letter that a grant is tentatively denied, explain the reasons for the tentative denial, and inform the State of the opportunity to appeal to the Board of Veterans' Appeals pursuant to 38 U.S.C. 7105. Decisions under this part are not subject to the provisions of § 17.133 of this order.

(Authority: 38 U.S.C. 101, 501, 511, 1710, 1742, 7101-7298, 8105, 8131-8137).

§ 59.121 Amendments to application.

Any amendment of an application that changes the scope of the application or changes the cost estimates by 10 percent or more shall be subject to approval in the same manner as an original application.

(Authority: 38 U.S.C. 101, 501, 1710, 1742, 8105, 8131-8137).

§ 59.122 Withdrawal of application.

A State representative may withdraw an application by submitting to VA a written document requesting withdrawal.

(Authority: 38 U.S.C. 101, 501, 1710, 1742, 8105, 8131-8137).

§ 59.123 Conference.

At any time, VA may recommend that a conference (such as a design development conference) be held in VA Central Office in Washington, DC, to provide an opportunity for the State and its architects to discuss requirements for a grant with VA officials.

(Authority: 38 U.S.C. 101, 501, 1710, 1742, 8105, 8131-8137).

§ 59.124 Inspections, audits, and reports.

(a) A State will allow VA inspectors and auditors to conduct inspections and audits as necessary to ensure compliance with the provisions of this part. The State will provide evidence that it has met its responsibility under the Single Audit Act of 1984 (see part 41 of this chapter) and submit that evidence to VA.

(b) A State will make such reports in such form and containing such information as the Chief Consultant, Geriatrics and Extended Care, may from time to time reasonably require and give the Chief Consultant, Geriatrics and Extended Care, upon demand, access to the records upon which such information is based.

(Authority: 38 U.S.C. 101, 501, 1710, 1742, 8105, 8131-8137).

§ 59.130 General requirements for all State home facilities.

As a condition for receiving a grant and grant funds under this part, States must comply with the requirements of this section.

(a) The physical environment of a State home must be designed, constructed, equipped, and maintained to protect the health and safety of participants, personnel and the public.

(b) A State home must meet the general conditions of the American Institute of Architects, or other general conditions required by the State, for awarding contracts for State home grant projects. Facilities must meet all Federal, State, and local requirements, including the Uniform Federal Accessibility Standards (UFAS) (24 CFR part 40, appendix A), during the design and construction of projects subject to this part. If the State or local requirements are different from the Federal requirements, compliance with the most stringent provisions is required. A State must design and construct the project to provide sufficient space and equipment in dining, health services, recreation, and program areas to enable staff to provide residents with needed services as required by this part and as identified in each resident's plan of care.

(c) State homes should be planned to approximate the home atmosphere as closely as possible. The interior and exterior should provide an attractive and home-like environment for elderly residents. The site will be located in a safe, secure, residential-type area that is accessible to acute medical care facilities, community activities and amenities, and transportation facilities typical of the area.

(d)(1) State homes must meet the applicable provisions of the National Fire Protection Association's NFPA 101, Life Safety Code (2000 edition) and the NFPA 99, Standard for Health Care Facilities (1999 edition). Incorporation by reference of these materials was approved by the Director of the Federal Register in accordance with 5 U.S.C. 552(a) and 1 CFR part 51. These materials, incorporated by reference, are available for inspection at the Office of the Federal Register, Suite 700, 800 North Capitol Street, NW, Washington, DC, and the Department of Veterans Affairs, Office of Regulations Management (02D), Room 1154, 810 Vermont Avenue, NW, Washington, DC 20420. Copies may be obtained from the National Fire Protection Association, 1 Batterymarch Park, P.O. Box 9101, Quincy, MA 02269-9101. (For ordering information, call toll free 1-800-344-3555.)

(2) Facilities must also meet the State and local fire codes.

(e) State homes must have an emergency electrical power system to supply power adequate to operate all exit signs and lighting for means of egress, fire and medical gas alarms, and emergency communication systems. The source of power must be an on-site emergency standby generator of sufficient size to serve the connected load or other approved sources.

(f) The nurse's station must be equipped to receive resident calls through a communication system from resident rooms, toilet and bathing facilities, dining areas, and activity areas.

(g) The State home must have one or more rooms designated for resident dining and activities. These rooms must be:

(1) Well lighted;

(2) Well ventilated; and

(3) Adequately furnished.

(h) The facility management must provide a safe, functional, sanitary, and comfortable environment for the residents, staff and the public. The facility must:

(1) Ensure that water is available to essential areas when there is a loss of normal water supply;

(2) Have adequate outside ventilation by means of windows, or mechanical ventilation, or a combination of the two;

(3) Equip corridors with firmly secured handrails on each side; and

(4) Maintain an effective pest control program so that the facility is free of pests and rodents.

(Authority: 38 U.S.C. 101, 501, 1710, 1742, 8105, 8131-8137).

§ 59.140 Nursing home care requirements.

As a condition for receiving a grant and grant funds for a nursing home facility under this part, States must comply with the requirements of this section.

(a) Resident rooms must be designed and equipped for adequate nursing care, comfort, and privacy of residents. Resident rooms must:

(1) Accommodate no more than four residents;

(2) Have direct access to an exit corridor;

(3) Have at least one window to the outside;

(4) Be equipped with, or located near, toilet and bathing facilities (VA recommends that public toilet facilities also be located near the residents dining and recreational areas);

(5) Be at or above grade level;

(6) Be designed or equipped to ensure full visual privacy for each resident;

(7) Except in private rooms, each bed must have ceiling suspended curtains that extend around the bed to provide total visual privacy in combination with adjacent walls and curtains;

(8) Have a separate bed for each resident of proper size and height for the safety of the resident;

(9) Have a clean, comfortable mattress;

(10) Have bedding appropriate to the weather and climate;

(11) Have functional furniture appropriate to the resident's needs, and

(12) Have individual closet space with clothes racks and shelves accessible to the resident.

(b) Unless determined by VA as necessary to accommodate an increased quality of care for patients, a nursing home project may propose a deviation of no more than 10 percent (more or less) from the following net square footage for the State to be eligible for a grant of 65 percent of the total estimated cost of the project. If the project proposes building more than the following net square footage and VA makes a determination that it is not needed, the cost of the additional net square footage will not be included in the estimated total cost of construction.

Table to Paragraph (b)—Nursing Home
I. Support facilities [allowable square feet (or metric equivalent) per facility for VA participation]:
Administrator | 200
Assistant administrator | 150
Medical officer, director of nursing or equivalent | 150
Nurse and dictation area | 120
General administration (each office/person) | 120
Clerical staff (each) | 80
Computer area | 40
Conference room (consultation area, in-service training) | 500 (for each room)
Lobby/waiting area. (150 minimum/600 maximum per facility) | 3 (per bed)
Public/resident toilets (male/female) | 25 (per fixture)
Pharmacy ¹
Dietetic service ¹
Dining area | 20 (per bed)
Canteen/retail sales | 2 (per bed)
Vending machines (450 max. per facility) | 1 (per bed)
Resident toilets (male/female) | 25 (per fixture)
Child day care ¹
Medical support (staff offices/exam/treatment room/family counseling, etc.) | 140 (for each room)
Barber and/or beauty shops | 140
Mail room | 120
Janitor's closet | 40
Multipurpose room | 15 (per bed)
Employee lockers | 6 (per employee)
Employee lounge (500 max. per facility) | 120
Employee toilets | 25 (per fixture)
Chapel | 450
Physical therapy | 5 (per bed)
Office, if required | 120
Occupational therapy | 5 (per bed).
Office, if required | 120
Library | 1.5 (per bed)
Building maintenance storage | 2.5 (per bed)
Resident storage | 6 (per bed)
General warehouse storage | 6 (per bed)
Medical/dietary/pharmacy | 7 (per bed)
General laundry ¹
II. Bed units:
One | 150
Two | 245
Large two-bed per unit | 305
Four | 460
Lounge areas (resident lounge with storage) | 8 (per bed)
Resident quiet room | 3 (per bed)
Clean utility | 120
Soiled utility | 105
Linen storage | 150
General storage | 100
Nurses station, ward secretary | 260
Medication room | 75
Exam/Treatment room | 140
Waiting area | 50
Unit supply and equipment | 50
Staff toilet | 25 (per fixture)
Stretcher/wheelchair storage | 100
Kitchenette | 150
Janitor's closet | 40
Resident laundry | 125
Trash collection | 60
III. Bathing and Toilet Facilities:
(A) Private or shared facilities:
Wheelchair facilities | 25 (per fixture)
Standard facilities | 15 (per fixture)
(B) Full bathroom | 75
(C) Congregate bathing facilities:
First tub/shower | 80
Each additional fixture | 25
¹ The size to be determined by the Chief Consultant, Geriatrics and Extended Care, as necessary to accommodate projected patient care needs (must be justified by State in space program analysis).

(Authority: 38 U.S.C. 101, 501, 1710, 1742, 8105, 8131-8137; Sections 2, 3, 4, and 4a of the Architectural Barriers Act of 1968, as amended, Public Law 90-480, 42 U.S.C. 4151-4157).

§ 59.150 Domiciliary care requirements.

As a condition for receiving a grant and grant funds for a domiciliary under this part, the domiciliary must meet the requirements for a nursing home specified in § 59.140 of this part.

(Authority: 38 U.S.C. 101, 501, 1710, 1742, 8105, 8131-8137).

§ 59.160 Adult day health care requirements.

As a condition for receiving a grant and grant funds under this part for an adult day health care facility, States must meet the requirements of this section.

(a) Each adult day health care program, when it is co-located in a nursing home, domiciliary, or other care facility, must have its own separate designated space during operational hours.

(b) The indoor space for an adult day health care program must be at least 100 square feet per participant including office space for staff, and must be 60 square feet per participant excluding office space for staff.

(c) Each program will need to design and partition its space to meet its own needs, but the following functional areas must be available:

(1) A dividable multipurpose room or area for group activities, including dining, with adequate table setting space.

(2) Rehabilitation rooms or an area for individual and group treatments for occupational therapy, physical therapy, and other treatment modalities.

(3) A kitchen area for refrigerated food storage, the preparation of meals and/or training participants in activities of daily living.

(4) An examination and/or medication room.

(5) A quiet room (with at least one bed), which functions to isolate participants who become ill or disruptive, or who require rest, privacy, or observation. It should be separate from activity areas, near a restroom, and supervised.

(6) Bathing facilities adequate to facilitate bathing of participants with functional impairments.

(7) Toilet facilities and bathrooms easily accessible to people with mobility problems, including participants in wheelchairs. There must be at least one toilet for every eight participants. The toilets must be equipped for use by persons with limited mobility, easily accessible from all programs areas, i.e. preferably within 40 feet from that area, designed to allow assistance from one or two staff, and barrier free.

(8) Adequate storage space. There should be space to store arts and crafts materials, personal clothing and belongings, wheelchairs, chairs, individual handiwork, and general supplies. Locked cabinets must be provided for files, records, supplies, and medications.

(9) An individual room for counseling and interviewing participants and family members.

(10) A reception area.

(11) An outside space that is used for outdoor activities that is safe, accessible to indoor areas, and accessible to those with a disability. This space may include recreational space and a garden area. It should be easily supervised by staff.

(d) Furnishings must be available for all participants. This must include functional furniture appropriate to the participants' needs.

(e) Unless determined by VA as necessary to accommodate an increased quality of care for patients, an adult day health care facility project may propose a deviation of no more than 10 percent (more or less) from the following net square footage for the State to be eligible for a grant of 65 percent of the total estimated cost of the project. If the project proposes building more than the following net square footage and VA makes a determination that it is not needed, the cost of the additional net square footage will not be included in the estimated total cost of construction.

Table to Paragraph (e)—Adult Day Health Care
I. Support facilities [allowable square feet (or metric equivalent) per facility for VA participation]:
Program Director | 200
Assistant administrator | 150
Medical officer, director of nursing or equivalent | 150
Nurse and dictation area | 120
General administration (each office/person) | 120
Clerical staff (each) | 80
Computer area | 40
Conference room (consultation area, in-service training) | 500 (for each room).
Lobby/receiving/waiting area (150 minimum) | 3 (per participant)
Public/resident toilets (male/female) | 25 (per fixture).
Dining area (may be included in the multipurpose room) | 20 (per participant).
Vending machines | 1 (per participant).
Participant toilets (male/female) | 25 (per fixture).
Medical support (staff offices/family counseling, etc.) | 140 (for each room).
Janitor's closet | 40
Dividable multipurpose room | 15 (per participant).
Employee lockers | 6 (per employee)
Employee lounge | 120
Employee toilets | 25 (per fixture).
Physical therapy | 5 (per participant).
Office, if required | 120
Occupational therapy | 5 (per participant).
Office, if required | 120
Building maintenance storage | 2.5 (per participant).
Resident storage | 6 (per participant).
General warehouse storage | 6 (per participant).
Medical/dietary | 7 (per participant).
General laundry ¹ |
II. Other Areas:
Participant quiet room | 3 (per participant).
Clean utility | 120
Soiled utility | 105
General storage | 100
Nurses station, ward secretary | 260
Medication/exam/treatment rooms | 75
Waiting area | 50
Program supply and equipment | 50
Staff toilet | 25 (per fixture).
Wheelchair storage | 100
Kitchen | 120
Janitor's closet | 40
Resident laundry | 125
Trash collection | 60
III. Bathing and Toilet Facilities:
(A) Private or shared facilities:
Wheelchair facilities | 25 (per fixture).
Standard facilities | 15 (per fixture).
(B) Full bathroom | 75
¹ The size to be determined by the Chief Consultant, Geriatrics and Extended Care, as necessary to accommodate projected patient care needs (must be justified by State in space program analysis).

(Authority: 38 U.S.C. 101, 501, 1710, 1742, 8105, 8131-8137; Sections 2, 3, 4, and 4a of the Architectural Barriers Act of 1968, as amended, Public Law 90-480, 42 U.S.C. 4151-4157).

§ 59.170 Forms.

All forms set forth in this part are available on the Internet at http://www.va.gov/About_VA/Orgs/VHA/VHAProg.htm.

BILLING CODE 8330-01-P

(Authority: 38 U.S.C. 101, 501, 1710, 1742, 8105, 8131-8137; Sections 2, 3, 4, and 4a of the Architectural Barriers Act of 1968, as amended, Public Law 90-480, 42 U.S.C. 4151-4157)

[FR Doc. 01-15773 Filed 6-25-01; 8:45 am]

BILLING CODE 8320-01-C